DEPARTMENT OF HEALTH AND HUMAN SERVICES

Centers for Disease Control and Prevention

[60Day-23-23EZ; Docket No. CDC-2023-0037]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of Government information, invites the general public and other Federal agencies the opportunity to comment on a proposed information collection, as required by the Paperwork Reduction Act of 1995. This notice invites comment on a proposed information collection project titled Workplans for Regional Centers to Enhance Public Health Preparedness and Response. This data collection is designed to support regional centers' creation of a five-year workplan which addresses focus areas that would benefit from use of new or enhanced evidence-based strategies (EBSI), existing and needed approaches to meet regional emergency preparedness and EBSI needs, proposed measures to ensure strategies and interventions are effectively implemented, and regional sustainability of evidence-based practice beyond the five-year workplan.

DATES: CDC must receive written comments on or before July 18, 2023.

ADDRESSES: You may submit comments, identified by Docket No. CDC-2023-0037 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov. Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Workplans for Regional Centers to Enhance Public Health Preparedness and Response—New—Office of Readiness and Response (ORR), Centers for Disease Control and Prevention (CDC).

Background and Brief Description

Since 2001, CDC has supported the development, implementation, evaluation, translation and dissemination of research findings, strategies, and interventions to improve public health preparedness and response systems, infrastructures, processes, and practices. This includes the long-standing PHEP cooperative agreement, CDC's Public Health Crisis Response Funding, and support for applied research and evaluation, metrics, measures, tools, and training development.

In 2021, with contract support, CDC's Office of Applied Research (OAR) initiated 12 scoping reviews, six landscape analyses, and one systematic review to conduct deeper dives into topics such as trust in public health preparedness and response, emergency communications strategies with people with limited English proficiency, public health emergency preparedness and response (PHEPR) practice in rural and tribal communities, and use of health equity coordinators in incident management. The results of these reviews show great breadth in the PHEPR field as it relates to knowledge available to support current practice and highlights the need to expand knowledge to address specific gaps. These needs and gaps may differ across geographical regions and within those regions at the state or local level. To address needs to increase the uptake of evidence-based interventions, in December 2022, through Section 2231 of the Federal appropriations for fiscal year 2023, CDC was directed to support not fewer than 10 Centers for PHEPR that are equally distributed among the geographical regions of the U.S. (referred to as the “network of centers”.

The goal of this project is to conduct a needs assessment to enhance the PHEPR capabilities in the 10 designated Health and Human Services (HHS) regions by creating an optimal five-year workplan to implement evidence-based strategies or interventions (EBSI) in this space. The five-year workplan will address: (1) focus areas that would benefit from use of new or enhanced evidence-based strategies or interventions (EBSI) or interventions, particularly to increase health equity; (2) existing and needed approaches as well as STLT health departments' capacity and capability to meet regional emergency preparedness and EBSI needs; (3) prioritized strategies and interventions to implement (and develop, if needed) EBSIs over the next five years; (4) proposed quantitative (required) and qualitative (optional) measures to ensure strategies and interventions are effectively implemented; and (5) regional sustainability of evidence-based practice beyond the five-year work plan. Contractors will collect information from the 10 HHS regional Strategic Coordinators to develop individualized workplans for their respective regions to increase the implementation of EBSIs for PHEPR activities.

OMB approval is requested for six months. The total estimated annualized burden for this information collection is 80 hours. There is no cost to respondents other than their time.

Estimated Annualized Burden Hours
Type of respondents | Form name | Number of respondents | Number of responses per respondent | Average burden per response (in hours) | Total burden (in hours)
HHS Regional Strategic Coordinators | Office of Applied Research Five-Year Regional Work Plan Development Template FY 2024-2028 | 10 | 1 | 8 | 80
Total |  |  |  |  | 80

Jeffrey M. Zirger,
Lead, Information Collection Review Office, Office of Public Health Ethics and Regulations, Office of Science, Centers for Disease Control and Prevention.

[FR Doc. 2023-10742 Filed 5-18-23; 8:45 am]

BILLING CODE 4163-18-P